DEPARTMENT OF COMMERCE

International Trade Administration

[A-823-816]

Carbon and Alloy Steel Wire Rod From Ukraine: Rescission of Antidumping Duty Administrative Review; 2023-2024

AGENCY: Enforcement and Compliance, International Trade Administration, Department of Commerce.

SUMMARY: The U.S. Department of Commerce (Commerce) is rescinding the administrative review of the antidumping duty (AD) order on carbon and alloy steel wire rod (wire rod) from Ukraine for the period of review (POR) March 1, 2023 through February 29, 2024.

DATES: Applicable December 11, 2024.

FOR FURTHER INFORMATION CONTACT: Brittany Bauer, AD/CVD Operations, Office V, Enforcement and Compliance, International Trade Administration, U.S. Department of Commerce, 1401 Constitution Avenue NW, Washington, DC 20230; telephone: (202) 482-3860.

SUPPLEMENTARY INFORMATION:

Background

On March 14, 2018, Commerce published in the Federal Register the AD order on wire rod from Ukraine.¹ On March 1, 2024, Commerce published in the Federal Register a notice of opportunity to request an administrative review of the Order.² On April 1, 2024, Commercial Metals Company and Nucor Corporation (collectively, the petitioners) submitted a timely request that Commerce conduct an administrative review of the Order.³ On May 8, 2024, Commerce published in the Federal Register its notice of initiation of an administrative review of the Order, in accordance with section 751(a) of the Tariff Act of 1930, as amended (the Act), and 19 CFR 351.221(c)(1)(i).⁴

¹ See Carbon and Alloy Steel Wire Rod from the Republic of South Africa and Ukraine: Antidumping Duty Orders, 83 FR 11175 (March 14, 2018) (Order).

² See Antidumping or Countervailing Duty Order, Finding, or Suspended Investigation; Opportunity To Request Administrative Review and Join Annual Inquiry Service List, 89 FR 15157 (March 1, 2024).

³ See Petitioners' Letter, “Request for Administrative Review,” dated April 1, 2024.

⁴ See Initiation of Antidumping and Countervailing Duty Administrative Reviews, 89 FR 38867 (May 8, 2024) (Initiation Notice).

This review covers subject merchandise exported and/or produced by the following six companies: (1) ArcelorMittal Steel Kryvyi Rih; (2) Public Joint Stock Company Yenakiieve Iron and Steel Works; (3) PrJSC Electrometallurgical Works Dneprospetsstal; (4) PJSC Dneprovsky Iron & Steel Integrated Works; (5) Metinvest Holding LLC; and (6) Variant Agro Build Ltd.⁵ On May 10, 2024, we placed on the record U.S. Customs and Border Protection (CBP) data for entries of wire rod from Ukraine during the POR, showing no reviewable POR entries for any company listed in the Initiation Notice.

⁵ Id., 89 FR 38871.

On November 6, 2024, Commerce notified all interested parties of its intent to rescind the instant review because there were no reviewable, suspended entries of subject merchandise by any of the companies subject to this review during the POR, and we invited interested partes to comment.⁶ We did not receive any comments.

⁶ See Memorandum, “Notice of Intent to Rescind Review,” dated November 6, 2024.

Rescission of Review

Pursuant to 19 CFR 351.213(d)(3), it is Commerce's practice to rescind an administrative review of an AD order when there are no reviewable entries of subject merchandise during the POR for which liquidation is suspended.⁷ Normally, upon completion of an administrative review, the suspended entries are liquidated at the AD assessment rate calculated for the review period.⁸ Therefore, for an administrative review to be conducted, there must be a reviewable, suspended entry that Commerce can instruct CBP to liquidate at the AD assessment rate calculated for the review period.⁹ As noted above, there were no entries of subject merchandise for the companies subject to this review during the POR. Accordingly, in the absence of suspended entries of subject merchandise during the POR, we are hereby rescinding this administrative review, in its entirety, in accordance with 19 CFR 351.213(d)(3).

⁷ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

⁸ See 19 CFR 351.212(b)(1).

⁹ See 19 CFR 351.213(d)(3).

Assessment

Commerce will instruct CBP to assess antidumping duties on all appropriate entries of wire rod from Ukraine. Antidumping duties shall be assessed at rates equal to the cash deposit rate of estimated antidumping duties required at the time of entry, or withdrawal from warehouse, for consumption, in accordance with 19 CFR 351.212(c)(1)(i). Commerce intends to issue appropriate assessment instructions to CBP no earlier than 35 days after the date of publication of this rescission notice in the Federal Register.

Administrative Protective Order (APO)

This notice also serves as the only reminder to parties subject to APO of their responsibility concerning the disposition of proprietary information disclosed under APO, in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act and 19 CFR 351.213(d)(4).

Dated: December 5, 2024.
Scot Fullerton,
Acting Deputy Assistant Secretary for Antidumping and Countervailing Duty Operations.

[FR Doc. 2024-29124 Filed 12-10-24; 8:45 am]

BILLING CODE 3510-DS-P